ENVIRONMENTAL PROTECTION AGENCY

[ER-FRL-6631-2]

Environmental Impact Statements; Notice of Availability

Responsible Agency: Office of Federal Activities, General Information (202) 564-7167 or http://www.compliance/nepa/

Weekly receipt of Environmental Impact Statements

Filed July 08, 2002 Through July 12, 2002

Pursuant to 40 CFR 1506.9.

EIS No. 020294, Final EIS, AFS, NM, Agua/Caballos Timber Sale, Harvesting Timber and Managing Existing Vegetation, Implementation, Carson National Forest, El Rito Ranger District, Taos County, NM, Wait Period Ends: August 19, 2002, Contact: Kurt Winchester (505) 581-4554.

EIS No. 020295, Final EIS, FRC, WA, Warm Creek (No. 10865) and Clearwater Creek (No. 11485) Hydroelectric Project, Issuance of License for the Construction and Operation, Located in the Middle Fork Nooksack River (MFNR) Basin, WA, Wait Period Ends: August 19, 2002, Contact: Timothy Looney (202) 219-2852.

EIS No. 020296, Final EIS, AFS, ID, Hidden Cedar Project, Road Construction and Watershed Restoration, Idaho Panhandle National Forest, St. Joe Ranger District, Benewah, Shoshone, Clearwater and Latah Counties, ID, Wait Period Ends: August 19, 2002, Contact: George Bain (208) 245-2531.

EIS No. 020297, Draft EIS, FHW, NC, US 321 Highway Improvement Project (TIP), From NC-1500 (Blackberry Road) North to US 221 in Blowing Rock, Funding and COE Section 404 Permit, Town of Blowing Rock, Caldwell and Watauga Counties, NC, Comment Period Ends: September 03, 2002, Contact: Nicholas L. Graf (919) 856-4346.

EIS No. 020298, Draft EIS, NPS, AZ, Navajo National Monument, General Management Plan, Development Concept Plan, Implementation, Navajo Counties, AZ, Comment Period Ends: September 30, 2002, Contact: Rosemari Knoki (928) 672-2700.

This document is available on the Internet at: http://planning.den.nps.gov/plans.cfm.

EIS No. 020299, Final EIS, AFS, ID, Whiskey Campo Resource Management Project, Implementation, Elmore County, ID, Wait Period Ends: August 19, 2002, Contact: David Rittenhouse (208) 373-4100.

EIS No. 020300, Draft EIS, SFW, NM, Rio Grande Silvery Minnow (Hybognathus amarus), To be Designation for Critical Habitat, Implementation, Bernalillo, Sandoval, Socorro, Valencia Counties, NM, Comment Period Ends: September 04, 2002, Contact: Joy Nicholopoulos (505) 346-2525.

This document is available on the Internet at: http://ifw2es.fws.gov.

EIS No. 020301, Draft EIS, AFS, AK, Kosciusko Island Timber Sale(s), Harvesting Timber, Tongass National Forest, Thorne Bay Ranger District, Kosciusko Island, AK, Comment Period Ends: September 03, 2002, Contact: Glenn Pierce (907) 826-1629.

EIS No. 020302, Draft Supplement, COE, CA, Bel Marin Key Unit V Expansion of the Hamilton Wetland Restoration Project, New and Updated Information, Application for Approval of Permits, Novato Creek, Marin County, CA, Comment Period Ends: September 03, 2002, Contact: Eric Jolliffe (415) 977-8543.

This document is available on the Internet at: http://www.coastalconservancy.ca.gov/belmarin.

EIS No. 020303, Final Supplement, COE, MO, St. Johns Bayou and New Madrid Floodway Project, Channel Enlargement and Improvement, Revised Information to Formulate and Analyze Additional Alternatives, Flood Control and National Economic Development (NED), New Madrid, Mississippi and Scott Counties, MO, Wait Period Ends: August 19, 2002, Contact: Shawn Phillips (901) 544-3321.

EIS No. 020304, Final EIS, NOA, CA, San Francisco Bay National Estuarine Research Reserve, Proposes to Designate Three Sites: China Camp State Park, Brown's Island Regional Parks District, and Rush Ranch Open Space Preserve, Contra Costa, Marin and Solano Counties, CA, Wait Period Ends: August 19, 2002, Contact: Laurie McGilvray—ext 15 (301) 713-3132.

EIS No. 020305, Draft EIS, FHW, CA, Riverside County Integrated Project, Winchester to Temecula Corridor a New Multi-Modal Transportation Facility, Route Location and Right-of-Way Preservation, County of Riverside, CA , Comment Period Ends: September 20, 2002, Contact: Mary Ann Rondinella (916) 498-5040.

This document is available on the Internet at: http://www.rcip.org.

EIS No. 020306, Draft EIS, FHW, CA, Riverside County Integrated Project, Hemet to Corona/Lake Elsinore Corridor a New Multi-Modal Transportation Facility, Route Location and Right-of-Way Preservation, County of Riverside, CA, Comment Period Ends: September 20, 2002, Contact: Mary Ann Rondinella (916) 498-5040.

This document is available on the Internet at: http://www.rcip.org.

EIS No. 020307, Draft Supplement, AFS, OR, Deep Vegetation Management Project, Implementation, Additional Information on Four Alternatives, Ochoo National Forest, Paulina Ranger District, Crook and Wheeler Counties, OR, Comment Period Ends: September 03, 2002, Contact: William E. Fish (541) 477-6900.

Amended Notices

EIS No. 020248, Draft EIS, COE, CA, Bolinas Lagoon Ecosystem Restoration, Proposal to Removal up to 1.5 Million Cubic Yard of Sediment from the bottom of Lagoon to Allow Restoration of Tidal Movement and Eventual Restoration of Tidal Habitat, Marin County, CA , Comment Period Ends: August 15, 2002, Contact: Roger Golden (415) 977-8703. Revision of FR Notice Published on 06/21/2002: CEQ Comment Period Ending 08/05/2002 has been Reestablished to 08/15/2002. Due to Incomplete Distribution of the DEIS at the time of Filing with USEPA under Section 1506.9 of the CEQ Regulations.

EIS No. 020282, Final EIS, COE, NJ, Meadowlands Mills Project, Construction of a Mixed-Use Commercial Development, Permit Application Number 95-07-440-RS, US Army COE Section 10 and 404 Permit Issuance, Boroughs of Carlstadt and Monnachie, Township of South Hackensack, Bergen County, NJ , Comment Period Ends: October 03, 2002, Contact: Steven Schumach (212) 264-0183. Revision of FR Notice published on 07/05/2002: CEQ Wait Period Ending 08/19/2002 has been Extended to 10/03/2002.

EIS No. 990029, Draft EIS, FAA, OH, Cancelled—Toledo Express Airport (TOL), Proposed Noise Compatibility Plan Air Traffic Actions and Proposed Aviation Related Industrial Development, Airport Layout Plan and Funding, Lucas County, OH, Due: March 17, 1999, Contact: Wally Welter (847) 294-8091. Revision of FR Notice Published on 02-05-1991: Officially Cancelled by the preparing agency by letter Dated 06/05/2002.

EIS No. 020236, Draft EIS, IBR, NM City of Albuquerque Drinking Water Project, To Provide a Sustainable Water Supply for Albuquerque through Direct and Full Consumptive Use of the City's San Juan-Chama (SJC) Water for Potable Purposes, Funding, Right-of-Way and COE Section 404 Permits, City of Albuquerque, NM, Comment Period Ends: August 13, 2002, Contact: Lori Robertson (505) 248-5326. Correction to Internet Site it should be: http://www.uc.usbr.gov.

Dated: July 16, 2002.
Joseph C. Montgomery,
Director, NEPA Compliance Division, Office of Federal Activities.

[FR Doc. 02-18282 Filed 7-18-02; 8:45 am]

BILLING CODE 6560-50-P